DEPARTMENT OF LABOR

Occupational Safety and Health Administration

29 CFR Parts 1910, 1915, 1917, 1918, and 1926

[Docket No. OSHA-2012-0023]

RIN 1218-AC74

Chemical Management and Permissible Exposure Limits (PELs)

AGENCY: Occupational Safety and Health Administration (OSHA), Labor.

ACTION: Extension of comment period.

SUMMARY: OSHA is extending the comment period on the Request for Information on Chemical Management and Permissible Exposure Limits (PELs) to October 9, 2015.

DATES: Comments must be submitted (postmarked, sent or received) by October 9, 2015.

ADDRESSES: You may submit comments, identified by Docket No. OSHA-2012-0023, by any one of the following methods:

Electronically: You may submit comments and written testimony along with attachments electronically at http://www.regulations.gov, which is the Federal e-Rulemaking Portal. Click on the “COMMENT NOW!” box next to the title “Chemical Management and Permissible Exposure Limits (PELs); Extension of Comment Period,” and follow the instructions on-line for making electronic submissions.

Fax: If your comments, including attachments, do not exceed 10 pages, you may fax them to the OSHA Docket Office at (202) 693-1648.

Mail, hand delivery, express mail, messenger or courier service: You must submit three copies of your comments and attachments to the OSHA Docket Office, Docket No. OSHA-2009-0044, U.S. Department of Labor, Room N-2625, 200 Constitution Avenue NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All submission must include the docket number (Docket No. OSHA-2012-0023) or RIN number (RIN 1218-AC74) for this rulemaking. Because of security-related procedures, submission by regular mail may result in significant delay. Please contact the OSHA Docket Office about security procedures for hand delivery, express delivery, messenger or courier.

All comments, including any personal information you provide, are placed in the public docket without change and may be made available on http://www.regulations.gov. Therefore, OSHA cautions you about submitting personal information such as social security numbers and birthdates.

Docket: To read or download submissions in response to the proposed rule, go to Docket No. OSHA-2009-0044 at http://www.regulations.gov. All submissions are listed in the http://www.regulations.gov index, however, some information (e.g., copyrighted material) is not publicly available to read or download through that Web page. All submissions, including copyrighted material, are available for inspections and copying at the OSHA Docket Office.

Electronic copies of this Federal Register document are available at http://www.regulations.gov. This document, as well as news releases and other relevant information, also are available at OSHA's Web page at http://www.osha.gov.

FOR FURTHER INFORMATION CONTACT: For general information and press inquiries, contact Frank Meilinger, Director, Office of Communications, Room N-3647, OSHA, U.S. Department of Labor, 200Constitution Avenue NW., Washington, DC 20210; telephone: (202) 693-1999; email: meilinger.francis2@dol.gov.

For technical inquiries, contact William Perry or Lyn Penniman, Directorate of Standards and Guidance, Room N-3718, OSHA, U.S. Department of Labor, 200 Constitution Avenue NW., Washington, DC 20210; telephone: (202) 693-1950 or fax (202) 693-1678; email: penniman.lyn@dol.gov.

SUPPLEMENTARY INFORMATION: On October 10, 2014, OSHA published in the Federal Register (79 FR 61384-61438) a Request for Information (RFI) soliciting stakeholder feedback with respect to OSHA's overall approach to managing hazardous chemical exposures in the workplace. The document outlines potential modifications to OSHA's current risk and feasibility assessment approaches and requests additional information about chemical management for the workplace that may be more efficient, while still maintaining worker protection. The RFI set a date of April 8, 2015 for submitting written comments.

OSHA has received multiple requests from stakeholders, including the American College of Occupational and Environmental Medicine (ACOEM), the American Federation of Labor and Congress of Industrial Organizations (AFL-CIO), the American Industrial Hygiene Association (AIHA), and ORCHSE Strategies, LLC, to extend the comment period by 60 to 180 additional days. These groups have requested this additional time in order to better research, consider, and formulate responses to the over 50 questions OSHA included in the RFI.

OSHA has decided to extend the comment deadline to October 9, 2015, which provides stakeholders an additional 6 months in which to submit comments.

Authority and Signature

David Michaels, Ph.D., MPH, Assistant Secretary of Labor for Occupational Safety and Health, U.S. Department of Labor, 200 Constitution Avenue NW., Washington, DC 20210, directed the preparation of this notice. OSHA is issuing this notice under 29 U.S.C. 653, 655, 657; 33 U.S.C. 941; 40 U.S.C. 3704 et seq.; Secretary of Labor's Order 1-2012 (77 FR 3912, 1/25/2012); and 29 CFR part 1911.

Signed at Washington, DC, on March 12, 2015.
David Michaels,
Assistant Secretary of Labor for Occupational Safety and Health.

[FR Doc. 2015-06516 Filed 3-24-15; 8:45 am]

BILLING CODE 4510-26-P